DEPARTMENT OF LABOR

Employment and Training Administration

[TA-W-80,472]

Tiger Drylac USA, Inc., Including On-Site Leased Workers From Berks and Beyond Employment Services, Gage Personnel and Office Team/Robert Half International, Reading, Pennsylvania; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 19, 2011, applicable to workers of Tiger Drylac USA, Inc., Reading, Pennsylvania. The workers are engaged in activities related to providing administrative services in support of production of powder coatings. Specifically, the workers provided customer service, IT, and lab services. The notice was published in the Federal Register on November 3, 2011 (76 FR 68220).

At the request of the State agency, the Department reviewed the certification for workers of the subject firm. New information shows that workers leased from Berks and Beyond Employment Services, Gage Personnel, and Office Team/Robert Half International were employed on-site at the Reading, Pennsylvania location of Tiger Drylac USA, Inc. The Department has determined that these workers were sufficiently under the control of Tiger Drylac USA, Inc. to be considered leased workers.

The intent of the Department's certification is to include all workers of the subject firm adversely affected by a shift in the production of powder coatings to Mexico.

Based on these findings, the Department is amending this certification to include workers leased from Berks and Beyond Employment Services, Gage Personnel, and Office Team/Robert Half International working on-site at the Reading, Pennsylvania location of the subject firm.

The amended notice applicable to TA-W-80,472 is hereby issued as follows:

All workers of Tiger Drylac USA, Inc., including on-site leased workers from Berks and Beyond Employment Services, Gage Personnel, and Office Team/Robert Half International, Reading, Pennsylvania, who became totally or partially separated from employment on or after September 26, 2010, through October 19, 2013, are eligible to apply for adjustment assistance under Section 223 of the Trade Act of 1974, and are also eligible to apply for alternative trade adjustment assistance under Section 246 of the Trade Act of 1974.

Signed at Washington, DC this 18th day of November 2011
Michael W. Jaffe,
Certifying Officer, Office of Trade Adjustment Assistance.

[FR Doc. 2011-30657 Filed 11-28-11; 8:45 am]

BILLING CODE 4510-FN-P